DEPARTMENT OF LABOR

Employee Benefits Security Administration

202nd Meeting of the Advisory Council on Employee Welfare and Pension Benefit Plans; Notice of Teleconference Meeting

Pursuant to the authority contained in Section 512 of the Employee Retirement Income Security Act of 1974 (ERISA), 29 U.S.C. 1142, the 202nd open meeting of the Advisory Council on Employee Welfare and Pension Benefit Plans (also known as the ERISA Advisory Council) will be held via a teleconference on Thursday, October 22, and Friday, October 23, 2020.

The two-day meeting will begin at 9:00 a.m. and end at approximately 5:30 p.m. each day with a one-hour break for lunch. The purpose of the open meeting is for Advisory Council members to hear testimony from invited witnesses and to receive an update from the Employee Benefits Security Administration (EBSA).

The Advisory Council will study the following topics: (1) Examining Top Hat Plan Participation and Reporting, and (2) Considerations for Recognizing and Addressing Participants with Diminished Capacity. Descriptions of these topics are available on the ERISA Advisory Council's web page at https://www.dol.gov/agencies/ebsa/about-ebsa/about-us/erisa-advisory-council.

The agenda for the meeting, which will include the schedule of witness testimony and the EBSA update, will be available on the ERISA Advisory Council's web page at https://www.dol.gov/agencies/ebsa/about-ebsa/about-us/erisa-advisory-council approximately one week prior to the meeting.

Organizations or members of the public wishing to submit a written statement may do so on or before Thursday, October 15, 2020, to Christine Donahue, Executive Secretary, ERISA Advisory Council. Statements should be transmitted electronically as an email attachment in text or pdf format to donahue.christine@dol.gov. Statements transmitted electronically that are included in the body of the email will not be accepted. Relevant statements received on or before October 15, 2020, will be included in the record of the meeting. No deletions, modifications, or redactions will be made to the statements received as they are public records.

Individuals or representatives of organizations wishing to address the ERISA Advisory Council should forward their requests to the Executive Secretary no later than October 15, 2020, via email to donahue.christine@dol.gov or by telephoning (202) 693-8641. Oral presentations will be limited to ten minutes, time permitting, but an extended statement may be submitted for the record.

Individuals who need special accommodations should contact the Executive Secretary no later than October 15, 2020, via email to donahue.christine@dol.gov or by telephoning (202) 693-8641.

For more information about the meeting, contact the Executive Secretary via email to donahue.christine@dol.gov or by telephoning (202) 693-8641.

Signed at Washington, DC, this 21st day of September, 2020.
Jeanne Klinefelter Wilson,
Acting Assistant Secretary, Employee Benefits Security Administration.

[FR Doc. 2020-21307 Filed 9-25-20; 8:45 am]

BILLING CODE 4510-29-P